ENVIRONMENTAL PROTECTION AGENCY

[FRL-7254-7]

Agency Information Collection Activities: Submission for OMB Review; Comment Request; Personal Exposure of High-Risk Subpopulations to Particles

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Personal Exposure of High-Risk Subpopulations to Particles; OMB Control Number 2080-0058, expiring July 31, 2002. The ICR describes the nature of the information collection and its expected burden and cost; where appropriate, it includes the actual data collection instrument.

DATES: Comments must be submitted on or before September 3, 2002.

ADDRESSES: Send comments, referencing EPA ICR No. 1887.02 and OMB Control No. 2080-0058, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by E-mail at Auby.Susan@epamail.epa.gov, or download off the Internet at http://www.epa.gov/icr and refer to EPA ICR No. 1887.02. For technical questions about the ICR contact Lance Wallace, Office of Research and Development, on 703-620-4543.

SUPPLEMENTARY INFORMATION: Title: Personal Exposure of High-Risk Subpopulations to Particles (OMB Control number 2080-0058; EPA ICR No.1887.02) expiring July 31, 2002. This is a request for extension of a currently approved collection.

Abstract: Because of the possible health effects of particulate air pollution, the Agency has a responsibility to determine the relationship of human exposure to particles with ambient air concentrations. At the urging of the National Academy of Sciences, four studies were begun in 1999 to determine personal exposure of high-risk subpopulations to particles. Three of the studies have completed data collection, but the fourth study will still be collecting data after the July 31, 2002 expiration date of the OMB-approved original questionnaire. The data will be used to help the Agency in its determination of the proper regulatory approach to ambient particles. All participation is completely voluntary. This will not involve any addition to the burden hours already approved.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on April 2, 2002 (67 FR 15565). No comments were received.

Burden Statement: The annual public reporting and record keeping burden for this collection of information is estimated to average 20 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Respondents with chronic obstructive pulmonary disease and cardiovascular disease.

Estimated Number of Respondents: 104

Frequency of Response: Daily for 12 days.

Estimated Total Annual Hour Burden: 2,090.

Estimated Total Annualized Capital, O&M Cost Burden: $0.

Send comments on the Agency's need for this information, the accuracy of the provided burden estimates, and any suggested methods for minimizing respondent burden, including through the use of automated collection techniques to the addresses listed above. Please refer to EPA ICR No. 1887.02 and OMB Control No. 2080-0058 in any correspondence.

Dated: July 23, 2002.
Oscar Morales,
Collection Strategies Division.

[FR Doc. 02-19564 Filed 8-1-02; 8:45 am]

BILLING CODE 6560-50-P